FEDERAL COMMUNICATIONS COMMISSION

47 CFR Parts 1 and 73

[MB Docket No. 17-106; DA 18-326]

Elimination of Main Studio Rule; Petition for Partial Reconsideration

AGENCY: Federal Communications Commission.

ACTION: Dismissal and denial of petition for partial reconsideration.

SUMMARY: This document dismisses and otherwise denies the Petition for Reconsideration filed by De La Hunt Broadcasting Corp. The Commission's rules provide that a petition for reconsideration which relies on facts or arguments not previously presented to the Commission will only be granted if one of three circumstances is present, and the Media Bureau concludes that none of the specified circumstances is present here. Because this is a fact-specific inquiry, and not an issue of general applicability, a waiver request is the proper means for considering this issue, and De La Hunt states that it has already requested such a waiver from the Media Bureau.

DATES: May 2, 2018.

ADDRESSES: Federal Communications Commission, 445 12th Street SW, Washington, DC 20554.

FOR FURTHER INFORMATION CONTACT: Diana Sokolow, Diana.Sokolow@fcc.gov, of the Policy Division, Media Bureau, (202) 418-2120.

SUPPLEMENTARY INFORMATION: This is a summary of the Commission's Memorandum Opinion and Order, MB Docket No. 17-106, adopted and released on April 2, 2018. The full text of this document is available for public inspection and copying during regular business hours in the FCC Reference Center, Federal Communications Commission, 445 12th Street SW, Washington, DC 20554. This document will also be available via ECFS at http://fjallfoss.fcc.gov/ecfs/. Documents will be available electronically in ASCII, Microsoft Word, and/or Adobe Acrobat. Copies of the materials can be obtained from the FCC's Reference Information Center at (202) 418-0270. Alternative formats are available for people with disabilities (Braille, large print, electronic files, audio format), by sending an email to fcc504@fcc.gov or calling the Commission's Consumer and Governmental Affairs Bureau at (202) 418-0530 (voice), (202) 418-0432 (TTY). This document is not subject to the Congressional Review Act. The Commission is, therefore, not required to submit a copy of this Memorandum Opinion and Order to the General Accounting Office pursuant to the Congressional Review Act, see 5 U.S.C. 801(a)(1)(A), because the Petition for Reconsideration was dismissed and otherwise denied.

Federal Communications Commission.
Thomas Horan,
Chief of Staff, Media Bureau.

[FR Doc. 2018-09294 Filed 5-1-18; 8:45 am]

BILLING CODE 6712-01-P